DEPARTMENT OF ENERGY

Federal Energy Regulatory Commission

Combined Notice of Filings #1

Take notice that the Commission received the following exempt wholesale generator filings:

Docket Numbers: EG23-162-000.

Applicants: SMT Mission LLC.

Description: SMT Mission LLC submits Notice of Self-Certification of Exempt Wholesale Generator Status.

Filed Date: 5/18/23.

Accession Number: 20230518-5143.

Comment Date: 5 p.m. ET 6/8/23.

Docket Numbers: EG23-163-000.

Applicants: SMT Los Fresnos LLC.

Description: SMT Los Fresnos LLC submits Notice of Self-Certification of Exempt Wholesale Generator Status.

Filed Date: 5/18/23.

Accession Number: 20230518-5144.

Comment Date: 5 p.m. ET 6/8/23.

Docket Numbers: EG23-164-000.

Applicants: SMT Rio Grande LLC.

Description: SMT Rio Grande LLC submits Notice of Self-Certification of Exempt Wholesale Generator Status.

Filed Date: 5/18/23.

Accession Number: 20230518-5152.

Comment Date: 5 p.m. ET 6/8/23.

Docket Numbers: EG23-165-000.

Applicants: SMT Rio Grande II LLC.

Description: SMT Rio Grande II LLC submits Notice of Self-Certification of Exempt Wholesale Generator Status.

Filed Date: 5/18/23.

Accession Number: 20230518-5166.

Comment Date: 5 p.m. ET 6/8/23.

Docket Numbers: EG23-166-000.

Applicants: SMT Harlingen II LLC.

Description: SMT Harlingen II LLC submits Notice of Self-Certification of Exempt Wholesale Generator Status.

Filed Date: 5/18/23.

Accession Number: 20230518-5188.

Comment Date: 5 p.m. ET 6/8/23.

Docket Numbers: EG23-167-000.

Applicants: Appaloosa Solar I, LLC.

Description: Appaloosa Solar I, LLC submits Notice of Self-Certification of Exempt Wholesale Generator Status.

Filed Date: 5/18/23.

Accession Number: 20230518-5192.

Comment Date: 5 p.m. ET 6/8/23.

Docket Numbers: EG23-168-000.

Applicants: Pome BESS LLC.

Description: Pome BESS LLC submits Notice of Self-Certification of Exempt Wholesale Status.

Filed Date: 5/18/23.

Accession Number: 20230518-5206.

Comment Date: 5 p.m. ET 6/8/23.

Take notice that the Commission received the following electric rate filings:

Docket Numbers: ER16-407-001.

Applicants: Dominion Bridgeport Fuel Cell, LLC.

Description: Compliance filing: Bridgeport Fuel Cell, LLC submits tariff filing per 35: Notice of Succession filing to be effective 5/19/2023.

Filed Date: 5/18/23.

Accession Number: 20230518-5178.

Comment Date: 5 p.m. ET 6/8/23.

Docket Numbers: ER21-253-004.

Applicants: Monongahela Power Company, The Potomac Edison Company, West Penn Power Company, PJM Interconnection, L.L.C.

Description: Compliance filing: Monongahela Power Company submits tariff filing per 35: SFCs Compliance Filing to May 4, 2023 Order in ER21-253 to be effective 1/1/2023.

Filed Date: 5/19/23.

Accession Number: 20230519-5115.

Comment Date: 5 p.m. ET 6/9/23.

Docket Numbers: ER23-1918-000.

Applicants: CPV Saddleback Ridge Wind, LLC.

Description: § 205(d) Rate Filing: Notice of Succession to Shared Facilities Agreement Rate Schedule to be effective 5/19/2023.

Filed Date: 5/18/23.

Accession Number: 20230518-5147.

Comment Date: 5 p.m. ET 6/8/23.

Docket Numbers: ER23-1919-000.

Applicants: Northern States Power Company, a Wisconsin corporation.

Description: § 205(d) Rate Filing: 2023-05-18 DPC SISA-North Wal 170-NSP to be effective 5/19/2023.

Filed Date: 5/18/23.

Accession Number: 20230518-5148.

Comment Date: 5 p.m. ET 6/8/23.

Docket Numbers: ER23-1920-000.

Applicants: CPV Canton Mountain Wind, LLC.

Description: § 205(d) Rate Filing: Notice of Succession to Certificate of Concurrence to be effective 5/19/2023.

Filed Date: 5/18/23.

Accession Number: 20230518-5149.

Comment Date: 5 p.m. ET 6/8/23.

Docket Numbers: ER23-1921-000.

Applicants: Southwest Power Pool, Inc.

Description: § 205(d) Rate Filing: 1636R28 Kansas Electric Power Cooperative, Inc. NITSA and NOA to be effective 5/1/2023.

Filed Date: 5/19/23.

Accession Number: 20230519-5032.

Comment Date: 5 p.m. ET 6/9/23.

Docket Numbers: ER23-1922-000.

Applicants: Southwest Power Pool, Inc.

Description: § 205(d) Rate Filing: Tariff Clean-Up Filing 2Q2023 to be effective 7/19/2023.

Filed Date: 5/19/23.

Accession Number: 20230519-5036.

Comment Date: 5 p.m. ET 6/9/23.

Docket Numbers: ER23-1923-000.

Applicants: Southwest Power Pool, Inc.

Description: § 205(d) Rate Filing: 3114R5 Resale Power Group of Iowa to be effective 5/1/2023.

Filed Date: 5/19/23.

Accession Number: 20230519-5051.

Comment Date: 5 p.m. ET 6/9/23.

Docket Numbers: ER23-1924-000.

Applicants: Midcontinent Independent System Operator, Inc., Republic Transmission, LLC.

Description: § 205(d) Rate Filing: Midcontinent Independent System Operator, Inc. submits tariff filing per 35.13(a)(2)(iii: 2023-05-19_Republic Transmission Request for Incentive Rate Abandonment Recovery to be effective 7/19/2023.

Filed Date: 5/19/23.

Accession Number: 20230519-5077.

Comment Date: 5 p.m. ET 6/9/23.

Docket Numbers: ER23-1925-000.

Applicants: Virginia Electric and Power Company, PJM Interconnection, L.L.C.

Description: § 205(d) Rate Filing: Virginia Electric and Power Company submits tariff filing per 35.13(a)(2)(iii: VEPCO and DEP submit Amended Interconnection Agreement, SA No. 3453 to be effective 5/16/2023.

Filed Date: 5/19/23.

Accession Number: 20230519-5110.

Comment Date: 5 p.m. ET 6/9/23.

Docket Numbers: ER23-1928-000.

Applicants: Appaloosa Solar I, LLC.

Description: Baseline eTariff Filing: Appaloosa Solar I, LLC MBR Tariff to be effective 5/20/2023.

Filed Date: 5/19/23.

Accession Number: 20230519-5123.

Comment Date: 5 p.m. ET 6/9/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2023.
Debbie-Anne A. Reese,
Deputy Secretary.

[FR Doc. 2023-11408 Filed 5-26-23; 8:45 am]

BILLING CODE 6717-01-P